DEPARTMENT OF THE INTERIOR

Bureau of Land Management

[LLAK930000.L13100000.FF0000.241A]

Renewal of Approved Information Collection

AGENCY: Bureau of Land Management, Interior.

ACTION: 60-Day notice and request for comments.

SUMMARY: In compliance with the Paperwork Reduction Act, the Bureau of Land Management (BLM) invites public comments on, and plans to request approval to continue, the collection of information from participants in the oil and gas leasing program within the National Petroleum Reserve—Alaska (NPRA). The Office of Management and Budget (OMB) has assigned control number 1004-0196 to this information collection.

DATES: Please submit comments on the proposed information collection by January 17, 2014.

ADDRESSES: Comments may be submitted by mail, fax, or electronic mail.

Mail: U.S. Department of the Interior, Bureau of Land Management, 1849 C Street NW., Room 2134LM, Attention: Jean Sonneman, Washington, DC 20240.

Fax: to Jean Sonneman at 202-245-0050.

Electronic mail: Jean_Sonneman@blm.gov.

Please indicate “Attn: 1004-0196” regardless of the form of your comments.

FOR FURTHER INFORMATION CONTACT: Wayne Svejnoha at 907-271-4407. Persons who use a telecommunication device for the deaf may call the Federal Information Relay Service at 1-800-877-8339 to leave a message for Mr. Svejnoha.

SUPPLEMENTARY INFORMATION: OMB regulations at 5 CFR part 1320, which implement provisions of the Paperwork Reduction Act, 44 U.S.C. 3501-3521, require that interested members of the public and affected agencies be given an opportunity to comment on information collection and recordkeeping activities (see 5 CFR 1320.8(d) and 1320.12(a)). This notice identifies an information collection that the BLM plans to submit to OMB for approval. The Paperwork Reduction Act provides that an agency may not conduct or sponsor a collection of information unless it displays a currently valid OMB control number. Until OMB approves a collection of information, you are not obligated to respond.

The BLM will request a 3-year term of approval for this information collection activity. Comments are invited on: (1) The need for the collection of information for the performance of the functions of the agency; (2) the accuracy of the agency's burden estimates; (3) ways to enhance the quality, utility and clarity of the information collection; and (4) ways to minimize the information collection burden on respondents, such as use of automated means of collection of the information. A summary of the public comments will accompany our submission of the information collection requests to OMB.

Before including your address, phone number, email address, or other personal identifying information in your comment, you should be aware that your entire comment—including your personal identifying information—may be made publicly available at any time. While you can ask us in your comment to withhold your personal identifying information from public review, we cannot guarantee that we will be able to do so.

The following information is provided for the information collection:

Title: Oil and Gas Leasing: National Petroleum Reserve—Alaska.

OMB Control Number: 1004-0196.

Summary: This control number applies to the National Petroleum Reserve—Alaska (NPRA). In accordance with the Naval Petroleum Reserve Production Act (42 U.S.C. 6501-6508) and regulations at 43 CFR part 3130, the BLM may authorize participation in an NPRA unit agreement. Participants in such an agreement are required to comply with routine data submissions that are used to document drilling and production and ensure compliance with the unit agreement, lease terms, regulations, Onshore Oil and Gas Orders, Notices to Lessees, lease stipulations, or conditions of approval. In addition, participants in such an agreement may apply for reduction of royalty, suspension of operations or production, or a subsurface storage agreement.

Frequency of Collection: On occasion.

Forms: None.

Description of Respondents: Participants in the oil and gas leasing program within the NPRA.

Estimated Annual Responses: 21.

Estimated Annual Burden Hours: 217.75 hours.

Estimated Annual Non-Hour Costs: None.

The estimated burdens are itemized in the following table:

Type of response | Number of responses | Time per response | Total time (Column B × Column C)
A. | B. | C. | D.
Royalty reduction (43 CFR 3133.4) | 1 | 16 hours | 16 hours.
Suspension of operations (43 CFR 3135.3) | 1 | 4 hours | 4 hours.
Notification of operations (43 CFR 3135.6) | 2 | 15 minutes | 30 minutes.
Unit designation (43 CFR 3137.21 and 3137.23) | 1 | 80 hours | 80 hours.
Notification of unit approval (43 CFR 3137.25) | 1 | 1 hour | 1 hour.
Certification for modification (43 CFR 3137.52) | 1 | 4 hours | 4 hours.
Acceptable bonding (43 CFR 3137.60) | 1 | 30 minutes | 30 minutes.
Change of unit operator (43 CFR 3137.61) | 1 | 45 minutes | 45 minutes.
Certification of unit obligation (43 CFR 3137.70) | 1 | 2 hours | 2 hours.
Certification of continuing development (43 CFR 3137.71) | 1 | 2 hours | 2 hours.
Productivity for a participating area (43 CFR 3137.84) | 1 | 12 hours | 12 hours.
Unleased tracts (43 CFR 3137.87) | 1 | 3 hours | 3 hours.
Notification of productivity (43 CFR 3137.88) | 1 | 30 minutes | 30 minutes.
Notification of productivity for non-unit well (43 CFR 3137.91) | 1 | 30 minutes | 30 minutes.
Production information (43 CFR 3137.92) | 1 | 1 hour | 1 hour.
Lease extension (43 CFR 3137.111) | 1 | 3 hours | 3 hours.
Inability to conduct operations activities (43 CFR 3137.112) | 1 | 2 hours | 2 hours.
Unit termination (43 CFR 3137.130) | 1 | 1 hour | 1 hour.
Impact mitigation (43 CFR 3137.135) | 1 | 4 hours | 4 hours.
Storage agreement (43 CFR 3138.11) | 1 | 80 hours | 80 hours.
Totals | 21 |  | 217.75 hours.

Jean Sonneman,
Information Collection Clearance Officer, Bureau of Land Management.

[FR Doc. 2013-27581 Filed 11-15-13; 8:45 am]

BILLING CODE 4310-84-P